DEPARTMENT OF COMMERCE

International Trade Administration

[A-570-010]

Certain Crystalline Silicon Photovoltaic Products From the People's Republic of China: Notice of Partial Rescission of Antidumping Duty Administrative Review; 2017-2018

AGENCY: Enforcement and Compliance, International Trade Administration, Department of Commerce.

SUMMARY: The Department of Commerce (Commerce) is rescinding, in part, the administrative review of the antidumping duty (AD) order on certain crystalline silicon photovoltaic products from the People's Republic of China (China) for the period of review (POR), February 1, 2017, through January 31, 2018.

DATES: Applicable September 7, 2018.

FOR FURTHER INFORMATION CONTACT: Jeff Pedersen, AD/CVD Operations, Office IV, Enforcement and Compliance, International Trade Administration, U.S. Department of Commerce, 1401 Constitution Avenue NW, Washington, DC 20230, telephone: (202) 482-2769.

SUPPLEMENTARY INFORMATION:

Background

On February 1, 2018, Commerce published in the Federal Register, a notice of opportunity to request an administrative review of the AD order on certain crystalline silicon photovoltaic products from China (the Order) covering the period February 1, 2017, through January 31, 2018.¹ Commerce received multiple timely requests for an administrative review of the Order. On April 16, 2018, in accordance with section 751(a) of Tariff Act of 1930, as amended (the Act) and 19 CFR 351.221(c)(1)(i), Commerce published in the Federal Register a notice initiating an administrative review of the Order with respect to 12 companies or groups of companies covering the period February 1, 2017, through January 31, 2018.² All requesting parties subsequently timely withdrew their requests to review the nine companies listed in the Appendix to this notice.

¹ See Antidumping or Countervailing Duty Order, Finding, or Suspended Investigation; Opportunity To Request Administrative Review, 83 FR 4639 (February 1, 2018).

² See Initiation of Antidumping and Countervailing Duty Administrative Reviews, 83 FR 16298 (April 16, 2018) (Initiation Notice).

Rescission of Review, in Part

Pursuant to 19 CFR 351.213(d)(1), Commerce will rescind an administrative review, in whole or in part, if the parties that requested the review withdraw their requests within 90 days of the date of publication of the notice of initiation of the requested review. All requesting parties withdrew their respective requests for an administrative review of the nine companies or group of companies listed in the Appendix to this notice within 90 days of the date of publication of the Initiation Notice. Accordingly, Commerce is rescinding this review with respect to these companies in accordance with 19 CFR 351.213(d)(1).³ The administrative review will continue with respect to all other firms for which a review was requested and initiated.

³ See Appendix. As stated in Change in Practice in NME Reviews, Commerce will no longer consider the non-market economy (NME) entity as an exporter conditionally subject to administrative reviews. See Antidumping Proceedings: Announcement of Change in Department Practice for Respondent Selection in Antidumping Duty Proceedings and Conditional Review of the Nonmarket Economy Entity in NME Antidumping Duty Proceedings, 78 FR 65963 (November 4, 2013). The China-wide entity is not subject to this administrative review because no interested party requested a review of the entity. See Initiation Notice.

Assessment

Commerce will instruct U.S. Customs and Border Protection (CBP) to assess antidumping duties on all subject merchandise exported by the companies listed in the Appendix to this notice that was entered, or withdrawn from warehouse, for consumption during the period of review. The entries shall be assessed AD duties that are equal to the cash deposit of estimated AD duties required at the time of entry, or withdrawal from warehouse, for consumption, in accordance with 19 CFR 351.212(c)(1)(i). Commerce intends to issue appropriate assessment instructions to CBP 15 days after publication of this notice in the Federal Register.

Notification to Importers

This notice serves as the only reminder to importers whose entries will be liquidated as a result of this rescission notice, of their responsibility under 19 CFR 351.402(f)(2) to file a certificate regarding the reimbursement of AD duties prior to liquidation of the relevant entries during this review period. Failure to comply with this requirement could result in the presumption that reimbursement of the AD duties occurred and the subsequent assessment of doubled AD duties.

Notification Regarding Administrative Protective Orders

This notice also serves as a reminder to parties subject to administrative protective order (APO) of their responsibility concerning the disposition of proprietary information disclosed under an APO in accordance with 19 CFR 351.305(a)(3), which continues to govern business proprietary information in this segment of the proceeding. Timely written notification of the return or destruction of APO materials, or conversion to judicial protective order, is hereby requested. Failure to comply with the regulations and terms of an APO is a sanctionable violation.

This notice is issued and published in accordance with sections 751(a)(1) and 777(i)(1) of the Act, and 19 CFR 351.213(d)(4).

Dated: August 31, 2018.
James Maeder,
Associate Deputy Assistant Secretary for Antidumping and Countervailing Duty Operations performing the duties of Deputy Assistant Secretary for Antidumping and Countervailing Duty Operations.

Appendix

• BYD (Shangluo) Industrial Co., Ltd.

• Changzhou Trina Solar Energy Co., Ltd./Trina Solar (Changzhou) Science and Technology Co., Ltd./Yangcheng Trina Solar Energy Co., Ltd./Turpan Trina Solar Energy Co., Ltd./Hubei Trina Solar Energy Co., Ltd.

• Chint Solar (Zhejiang) Co., Ltd.

• Hefei JA Solar Technology Co., Ltd.

• Perlight Solar Co., Ltd.

• Shanghai BYD Co., Ltd.

• Shenzhen Letsolar Technology Co., Ltd.

• Sunny Apex Development Ltd.

• Wuxi Suntech Power Co., Ltd.

[FR Doc. 2018-19427 Filed 9-6-18; 8:45 am]

BILLING CODE 3510-DS-P